NUCLEAR REGULATORY COMMISSION

Advisory Committee on Reactor Safeguards Meeting of the ACRS Subcommittee on Reliability and Probabilistic Risk Assessment; Notice of Meeting

The ACRS Subcommittee on Reliability and Probabilistic Risk Assessment (PRA) will hold a meeting on April 28, 2006, Room T-2B3, 11545 Rockville Pike, Rockville, Maryland.

The entire meeting will be open to public attendance.

The agenda for the subject meeting shall be as follows:

Friday, April 28, 2006—8:30 a.m. Until 12:30 p.m.

The Subcommittee will hear the status of the Risk Management Tech Spec (RMTS) Initiative 4b, “Use of Configuration Management for Determining Technical Specification Completion Times, Related to the Use of Probabilistic Risk Assessment (PRA) and Risk Monitoring Tools.” The Subcommittee will hear presentations by and hold discussions with representatives of the NRC staff and industry regarding this matter. The Subcommittee will gather information, analyze relevant issues and facts, and formulate proposed positions and actions, as appropriate, for deliberation by the full Committee.

Members of the public desiring to provide oral statements and/or written comments should notify the Designated Federal Official, Mr. John G. Lamb, (Telephone: 301-415-6855) five days prior to the meeting, if possible, so that appropriate arrangements can be made. Electronic recordings will be permitted.

Further information regarding this meeting can be obtained by contacting the Designated Federal Official between 7:30 a.m. and 4:15 p.m. (ET). Persons planning to attend this meeting are urged to contact the above named individuals at least two working days prior to the meeting to be advised of any potential changes to the agenda.

Dated: March 28, 2006.
Michael R. Snodderly,
Acting Branch Chief, ACRS/ACNW.

[FR Doc. E6-4784 Filed 3-31-06; 8:45 am]

BILLING CODE 7590-01-P